DEPARTMENT OF LABOR

Employment and Training Administration

[TA-W-55,578]

Celestica, Repair Subdivision, Little Rock, AR; Notice of Negative Determination Regarding Application for Reconsideration

By application of October 29, 2004, the International Brotherhood of Electrical Workers, Local 2022, requested administrative reconsideration of the Department's negative determination regarding eligibility for workers and former workers of the subject firm to apply for Trade Adjustment Assistance (TAA) and Alternative Trade Adjustment Assistance (ATAA). The negative determination applicable to workers of Celestica, Repair Subdivision, Little Rock, Arkansas was signed on October 15, 2004. The notice of determination was published in the Federal Register on November 12, 2004 (69 FR 65462).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition was filed on behalf of workers at Celestica, Repair Subdivision, Little Rock, Arkansas engaged in activities related to the repair of defective wireless phones, wired office phone handlers, phone switches, and other related equipment. The petition was denied because the workers did not produce an article within the meaning of section 222 of the Act.

In the request for reconsideration, the Union alleged that repair work should be considered remanufacturing work.

A company official was contacted to clarify the work performed at the Repair Subdivision and ascertain whether the repaired items were sold as remanufactured items. The official stated that the work done was repair and not remanufacturing, that defective items were sent to the repair facility by the end user pursuant to a warranty, that repaired items were returned directly to the end user, and that repaired items were not sold as remanufactured items.

Repair of products already purchased does not constitute production within the context of eligibility requirements for trade adjustment assistance.

Conclusion

After review of the application and investigative findings, I conclude that there has been no error or misinterpretation of the law or of the facts which would justify reconsideration of the Department of Labor's prior decision. Accordingly, the application is denied.

Signed in Washington, DC, this 12th day of January, 2005.
Elliott S. Kushner,
Certifying Officer, Division of Trade Adjustment Assistance.

[FR Doc. E5-271 Filed 1-25-05; 8:45 am]

BILLING CODE 4510-30-P